DEPARTMENT OF INTERIOR

National Park Service

Fire Management Plan, Environmental Impact Statement, Bandelier National Monument, NM

AGENCY: National Park Service, Department of the Interior.

ACTION: Notice of intent to prepare an Environmental Impact Statement for the Fire Management Plan for Bandelier National Monument.

SUMMARY: Pursuant to the National Environmental Policy Act of 1969, 42 U.S.C. 4332 (C) the National Park Service is preparing an Environmental Impact Statement for the Fire Management Plan for Bandelier National Monument. This effort will result in a new wildland fire management plan that meets current policies, provides a framework for making fire-related decisions, and serves as an operational manual. Development of a new fire plan is compatible with the broader goals and objectives derived from the park purpose that governs resources management. Alternatives to be considered in addition to the required no-action alternative include: 1. In-park comprehensive action alternative, 2. the cooperative comprehensive management alternative, and 3. the limited strategies alternative. The no-action alternative maintains the current 1997 fire management plan strategy of suppression, wildland fire use, and prescribed burning. The In-park comprehensive alternative is a fully integrated fire management plan with all strategies available for use within park boundaries including suppression, mechanical thinning and prescribed and natural fires that meet management objectives. The cooperative comprehensive management alternative also is a fully integrated fire management plan with all strategies available. Opportunities for cooperative planning with interagency partners and adjacent land managers would be encouraged. The limited strategies alternative would allow the limited use of prescribed burning, limited manual (i.e.: chainsaw) thinning in developed areas only, and does not allow wildland fire use.

Major issues are environmental effects of the FMP that are potential problems. These include: protection of cultural resources, restoration of plant and wildlife habitats, habitat protection for threatened and endangered species, protection of park neighbors' properties, protection of air quality values, protection of life and property, and changes in landscape-scale vegetation patterns.

A scoping brochure has been prepared describing the issues identified to date. The brochure is available for downloading as a pdf document from Bandelier National Monument's Web site at http://www.nps.gov/band. To obtain a paper copy of the brochure, write to the Fire Management Office, Bandelier National Monument, HCR 1, Box 1, Suite 15, Los Alamos, New Mexico 87544.

DATES: The Park Service will accept comments from the public through September 5, 2003.

ADDRESSES: If you wish to comment on the scoping brochure, you may submit your comments by any one of several methods. You may mail comments to Fire Management Office, Bandelier National Monument, HCR 1, Box 1, Suite 15, Los Alamos, NM 87544. You may also comment via e-mail to BAND Fire@nps.gov. Please submit electronic comments as an ASCII file avoiding the use of special characters and any form of encryption. If you do not receive a confirmation from the system that we have received your message, contact us directly at Bandelier Fire Management Office at 505-672-3861 x512. Finally you may hand-deliver comments to Bandelier National Monument or at public meetings that will be held Los Alamos and Santa Fe, New Mexico.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

FOR FURTHER INFORMATION CONTACT: Jim Whittington, Bandelier National Monument, 505-672-3861 x512.

Dated: June 11, 2003.
Michael D. Snyder,
Deputy Director, Intermountain Region, National Park Service.

[FR Doc. 03-19963 Filed 8-5-03; 8:45 am]

BILLING CODE 4312-EW-M